DEPARTMENT OF THE INTERIOR

National Park Service

Notice of Intent to Repatriate Cultural Items: UCLA Fowler Museum of Cultural History, University of California, Los Angeles, Los Angeles, CA

AGENCY: National Park Service, Interior.

ACTION: Notice.

Notice is hereby given in accordance with the Native American Graves Protection and Repatriation Act (NAGPRA), 25 U.S.C. 3005, Sec. 7, of the intent to repatriate cultural items in the possession of the UCLA Fowler Museum of Cultural History, University of California, Los Angeles, Los Angeles, CA, that meet the definition of “unassociated funerary objects” under 25 U.S.C. 3001.

This notice is published as part of the National Park Service’s administrative responsibilities under NAGPRA, 25 U.S.C. 3003, Sec. 5 (d)(3). The determinations within this notice are the sole responsibility of the museum, institution, or Federal agency that has control of these cultural items. The National Park Service is not responsible for the determinations within this notice.

In 1965, 33 unassociated funerary objects were removed from the Rancho site (CA-RIV-364), a documented cremation and burial site, Riverside County, CA, by Dr. Joseph L. Chartkoff. The objects are 21 Tizon Brown pottery sherds, 1 lathe-turned ink bottle, 3 glass fragments, 1 basalt core, 1 unmodified basalt flake, 1 unmodified stone flake, 1 brass button, 1 burned deer bone, 1 porcelain plate fragment, and 2 unmodified quartz flakes. Dr. Chartkoff donated these cultural items to the University of California, Los Angeles the same year.

The Rancho site (CA-RIV-364) is close to the present-day Pechanga Reservation, in the valley of Temecula Creek. Geographical location and archeological and oral traditional evidence support the association of this site with precontact and historic village sites within the territory of the Pechanga Band of Luiseno Mission Indians of the Pechanga Reservation, California. The site is well known, by both oral tradition and archeological documentation, to be a precontact and postcontact cremation and burial site. Members of the Pechanga Band of Luiseno Indians Cultural Committee identified the artifacts collected there as part of the traditional Luiseno cremation and memorial offering rites. According to Raymond Basquez, Chairperson of the tribal Cultural Resources Department, Elder, and traditional religious leader, when traditional cremation practices gave way after contact to inhumation, Luiseno peoples’ personal possessions often were collected, burned, and placed at traditional cremation/cemetery areas. Some artifacts, such as the plate fragment, broken glass, lathe-turned inkbottle, and metal button, appear to date to the Spanish or Mexican period (late 1700s-early 1800s) in California. The Tizon Brown pottery sherds are consistent with a Late Prehistoric and historic age.

Officials of the UCLA Fowler Museum of Cultural History have determined that, pursuant to 25 U.S.C. 3001, Sec. 2 (3)(B), the 33 objects listed above are reasonably believed to have been placed with or near individual human remains at the time of death or later as part of the death rite or ceremony and are believed, by a preponderance of the evidence, to have been removed from a specific burial site of Native American individuals. Officials of the UCLA Fowler Museum of Cultural History also have determined that, pursuant to 25 U.S.C. 3001, Sec. 2 (2), there is a relationship of shared group identity that can be reasonably traced between these unassociated funerary objects and the Pechanga Band of Luiseno Mission Indians of the Pechanga Reservation, California.

Representatives of any other Indian tribe that believes itself to be culturally affiliated with these unassociated funerary objects should contact Diana Wilson, UCLA NAGPRA Coordinator, Office of the Vice Chancellor, Research, University of California, Los Angeles, Box 951405, Los Angeles, California 90095-1405, telephone (310) 825-1864, before November 25, 2002. Repatriation of the unassociated funerary objects to the Pechanga Band of Luiseno Mission Indians of the Pechanga Reservation, California may begin after that date if no additional claimants come forward.

Officials of the UCLA Fowler Museum of Cultural History are responsible for notifying officials of the Pechanga Band of Luiseno Mission Indians of the Pechanga Reservation, California that this notice has been published.

Dated: September 25, 2002
Robert Stearns,
Manager, National NAGPRA Program.

[FR Doc. 02-27248 Filed 10-24-02; 8:45 am]

BILLING CODE 4310-70-S